DEPARTMENT OF THE INTERIOR

Bureau of Ocean Energy Management

[Docket No. BOEM-2014-0001]

Draft Environmental Impact Statement for the Cook Inlet Outer Continental Shelf Oil and Gas Lease Sale 244; MMAA104000

AGENCY: Bureau of Ocean Energy Management (BOEM), Interior.

ACTION: Notice of Availability (NOA) of a Draft Environmental Impact Statement.

SUMMARY: BOEM is announcing the availability of the Draft Environmental Impact Statement (EIS) for the proposed Cook Inlet Outer Continental Shelf Oil and Gas Lease Sale 244. This notice marks the start of the public review and comment period and serves to announce public hearings on the Draft EIS. After the public hearings and written comments on the Draft EIS have been reviewed and considered, a Final EIS will be prepared.

The proposed action addressed in this Draft EIS is to conduct an oil and gas lease sale on portions of the Cook Inlet Outer Continental Shelf (OCS) Planning Area. Lease Sale 244 would provide qualified bidders the opportunity to bid on OCS blocks in Cook Inlet to gain conditional rights to explore, develop, and produce oil and natural gas.

The Draft EIS analyzes the potential direct, indirect, and cumulative environmental impacts of the proposed lease sale on the physical, biological, and human environments in the Cook Inlet area. The EIS describes a hypothetical scenario of exploration, development, production, and decommissioning activities that could result from the proposed lease sale, and analyzes the potential impacts of those activities on the environment.

Authority: This Notice of Availability for the Draft EIS is in compliance with the National Environmental Policy Act of 1969, as amended (42 U.S.C. 4231 et seq.), and is published pursuant to 43 CFR 46.415.

DATES: Comments should be submitted no later than September 6, 2016. See public hearing dates in the SUPPLEMENTARY INFORMATION.

SUPPLEMENTARY INFORMATION: On August 27, 2012, the Secretary of the Interior approved the June 2012 Proposed Final Outer Continental Shelf Oil & Gas Leasing Program 2012-2017 (Five-Year Program). The Five-Year Program includes proposed Lease Sale 244.

The proposed Lease Sale 244 area defined in the Area Identification (Area ID) is located offshore of the State of Alaska in the northern portion of the Federal waters of Cook Inlet. The Area ID is comprised of 224 OCS blocks, which encompass an area of approximately 442,875 hectares (1.09 million acres). This area is close to infrastructure needed to support exploration, development, and production activities.

The Area ID includes areas identified by industry in their responses to a March 27, 2012, Request for Interest. The proposed lease sale area also defers certain areas from consideration due to potential conflicts with areas of high ecological and subsistence value. These include: (1) The majority of the designated critical habitat areas for beluga whale and northern sea otter, and all of the critical habitat areas for Stellar sea lions and the North Pacific right whale, that are located within the Planning Area; (2) a buffer between the area considered for leasing and the Katmai National Park and Preserve, the Kodiak National Wildlife Refuge, and the Alaska Maritime National Wildlife Refuge; and (3) many of the subsistence use areas for the Native Villages of Nanwalek, Seldovia, and Port Graham identified during the Cook Inlet Lease Sale 191 process.

On October 23, 2014, BOEM published in the Federal Register a Notice of Intent (NOI) to prepare an EIS in support of Lease Sale 244. Publication of the NOI opened a public comment period that extended through December 8, 2014. In November 2014, BOEM held a series of scoping meetings for the EIS. The 26 comments received during this scoping period were used to inform the scope and content of this Draft EIS.

In this Draft EIS, BOEM has examined the potential environmental effects of activities that could result from the Lease Sale 244 proposed action, along with several alternatives. The Draft EIS is based on BOEM estimates of the potential oil and gas resources in the proposed lease sale area and an associated scenario that estimates a range of potential oil and gas activities, including exploration seismic surveying, on-lease ancillary activities, exploration and delineation drilling, development, production, and decommissioning.

Draft EIS Availability: Persons interested in reviewing the Cook Inlet Lease Sale 244 Draft EIS (OCS EIS/EA BOEM-2016-004) can download it from the Internet at http://www.boem.gov/ak-eis-ea/ or they may contact BOEM by calling (907) 334-5200 to request a paper copy (subject to availability) or a CD/ROM version. The Draft EIS will also be available for review at libraries in towns adjacent to the proposed lease sale and at multiple libraries in Anchorage.

Comments: All interested parties, including Federal, State, Tribal, and local governments, and the public are invited to submit written comments on the Draft EIS at: Federal eRulemaking Portal: http://www.regulations.gov. In the field entitled, “Enter Keyword or ID,” enter BOEM-2014-0001, and then click “Search.”

BOEM does not consider anonymous comments; please include your name and address as part of your submittal. Individual respondents may request that BOEM withhold their names and/or addresses from the public record; however, BOEM cannot guarantee that we will be able to do so. If you wish your name and/or address to be withheld, you must state your preference prominently at the beginning of your comment. All submissions from organizations, businesses, and identified individuals will be available for public viewing on regulations.gov.

Public Hearings: BOEM will hold public hearings on the Draft EIS from August 15, 2016, through August 18, 2016. The purpose of these hearings is to receive public comments on the Draft EIS. These hearings are scheduled as follows:

• Monday, August 15, 2016; Dena'ina Civic and Convention Center, Anchorage, Alaska; 5:00-8:00 p.m.

• Wednesday, August 17, 2016; Alaska Maritime National Wildlife Refuge Islands and Ocean Visitor Center, Homer, Alaska; 5:00-8:00 p.m.

• Thursday, August 18, 2016; Alaska National Guard Armory, Kenai/Soldotna, Alaska; 5:00-8:00 p.m.

FOR FURTHER INFORMATION CONTACT: Bureau of Ocean Energy Management, Alaska OCS Region, 3801 Centerpoint Drive, Suite 500, Anchorage, Alaska 99503-5823; or Caron McKee, Lease Sale 244 Environmental Coordinator, (907) 334-5200.

Dated: July 8, 2016.
Abigail Ross Hopper,
Director, Bureau of Ocean Energy Management.

[FR Doc. 2016-16847 Filed 7-21-16; 8:45 am]

BILLING CODE 3510-MR-P